DEPARTMENT OF TRANSPORTATION

National Highway Traffic Safety Administration

[Docket No. NHTSA-2016-0093; Notice 1]

General Motors, LLC, Receipt of Petition for Decision of Inconsequential Noncompliance

AGENCY: National Highway Traffic Safety Administration (NHTSA), Department of Transportation (DOT).

ACTION: Receipt of petition.

SUMMARY: General Motors, LLC (GM), has determined that certain model year (MY) 2016-2017 Cadillac CTS, CT6, XTS and Escalade motor vehicles do not fully comply with paragraph S5.5.5(a) of Federal Motor Vehicle Safety Standard (FMVSS) No. 135, Light Vehicle Brake Systems. GM filed a report dated August 17, 2016, pursuant to 49 CFR part 573, Defect and Noncompliance Responsibility and Reports. GM then petitioned NHTSA under 49 CFR part 556 for a decision that the subject noncompliance is inconsequential as it relates to motor vehicle safety.

DATES: The closing date for comments on the petition is October 31, 2016.

ADDRESSES: Interested persons are invited to submit written data, views, and arguments on this petition. Comments must refer to the docket and notice number cited in the title of this notice and be submitted by any of the following methods:

• Mail: Send comments by mail addressed to U.S. Department of Transportation, Docket Operations, M-30, West Building Ground Floor, Room W12-140, 1200 New Jersey Avenue SE., Washington, DC 20590.

• Hand Deliver: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

The petition, supporting materials, and all comments received before the close of business on the closing date indicated above will be filed in the docket and will be considered. All comments and supporting materials received after the closing date will also be filed and will be considered to the extent possible.

When the petition is granted or denied, notice of the decision will also be published in the Federal Register pursuant to the authority indicated at the end of this notice.

All documents submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000 (65 FR 19477-78).

SUPPLEMENTARY INFORMATION: I. Overview: Pursuant to 49 U.S.C. 30118(d) and 30120(h) and their implementing regulations at 49 CFR part 556, GM submitted a petition for an exemption from the notification and remedy requirements of 49 U.S.C. Chapter 301 on the basis that this noncompliance is inconsequential as it relates to motor vehicle safety.

This notice of receipt of GM's petition is published under 49 U.S.C. 30118 and 30120 and does not represent any agency decision or other exercise of judgment concerning the merits of the petition.

II. Vehicles Involved: Affected are 46,205 of the following MY 2016-2017 Cadillac motor vehicles manufactured between March 10, 2015, and June 13, 2016:

• Cadillac CT6

• Cadillac CTS

• Cadillac Escalade

• Cadillac Escalade ESV

• Cadillac XTS

III. Noncompliance: GM explains that the noncompliance is that when the parking brake is applied on the subject vehicles the telltale light that illuminates within the cluster does not meet the lettering height requirements as specified in paragraph S5.5.5(a) of FMVSS No. 135 and also referenced in table 1; column 1, of FMVSS No. 101. Specifically, the lettering height for the telltale on the subject vehicles is 2.44 mm when it should be a minimum height of 3.2 mm.

IV. Rule Text: Paragraph S5.5.5(a) of FMVSS No. 135 states, in pertinent part:

S5.5.5 Labeling. (a) Each visual indicator shall display a word or words in accordance with the requirements of Standard No. 101 (49 CFR 571.101) and this section, which shall be legible to the driver under all daytime and nighttime conditions when activated. Unless otherwise specified, the words shall have letters not less than 3.2 mm (⅛ inch) high and the letters and background shall be of contrasting colors, one of which is red . . .

V. Summary of GM's Petition: GM described the subject noncompliance and stated its belief that the noncompliance is inconsequential as it relates to motor vehicle safety.

In support of its petition, GM submitted the following reasoning:

(a) The park brake applied telltale (identified by the word “PARK”) is red in color contrasted against a black screen, as required by S5.5.5(a) and (d)(4), conspicuously located and readily visible at the top left-of-center position of the instrument panel cluster. Additionally, the four letters of the word “PARK” are all capitalized such that the 2.44 mm height is preserved across the width of the word.

(b) In addition to the park brake applied telltale required by FMVSS No. 135, all of the affected vehicles also have a driver information center (DIC) message “Park Brake Set” that illuminates when the parking brake is applied. The lettering height of this DIC message is 3.24 mm, greater than the 3.2 mm minimum specified for visual indicators in FMVSS No. 135. The DIC message is also substantially wider than the typical width of the telltale required by the standard. The redundant telltale and the DIC message, assure ample communication to the driver that the parking brake is applied.

(c) The operation and performance of the park brake itself is unaffected by this telltale condition. The park brake complies with all applicable requirements of FMVSS No. 135.

(d) The NHTSA has previously granted inconsequential treatment for labeling issues across various motor vehicle safety standards, including for discrepancies involving lettering height, missing information, incorrect information, and misplaced or obscured information. For example, two comparable petitions for inconsequential treatment involving brake telltale lettering height were granted to Kia and Hyundai (reference Docket numbers “NHTSA-2004-17439”, Notice 2 and “NHTSA-2004-17439” (sic), Notice 2, published in the Federal Register on July 8, 2004, and July 9, 2004, respectively). The Kia petition cited multiple previous petitions for inconsequential treatment for brake telltale noncompliance granted by NHTSA, and we ask to incorporate them here by reference.

(e) After searching VOQ, TREAD and internal GM databases, GM is not aware of any crashes, injuries, or customer complaints associated with this condition.

(f) GM has corrected this condition in production. All vehicles produced after June 13, 2016, comply with the telltale lettering height specified in FMVSS No. 135.

GM concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Jeffrey M. Giuseppe,
Director, Office of Vehicle Safety Compliance.

[FR Doc. 2016-23560 Filed 9-28-16; 8:45 am]

BILLING CODE 4910-59-P